LEGAL SERVICES CORPORATION

Notice of Availability of Calendar Year 2023 Competitive Grant Funds for the Veterans Pro Bono Program

AGENCY: Legal Services Corporation.

ACTION: Notice.

SUMMARY: The Legal Services Corporation (LSC) provides grants of federally-appropriated funds for civil legal services to low-income individuals and families. LSC administers the process of awarding grant funds for the Veterans Pro Bono Program to furnish effective, efficient, and high-quality pro bono legal services to eligible veterans appearing before the United States Court of Appeals for Veterans Claims (Court). LSC hereby announces the availability of competitive grant funds for the Veterans Pro Bono Program for calendar year 2023 and solicits pre-applications from interested parties. The exact amount of available funds and the date, terms, and conditions of their availability for the calendar year 2023 will be determined through the congressional appropriations process for FY 2023. In 2021, Congress appropriated $3,286,509.

DATES: The deadline to submit a Pre-Application is Thursday, April 14, 2022, by 5 p.m. Eastern Time. Pre-Applications must be submitted by email to TaboasA@lsc.gov.

ADDRESSES: Letters of Intent must be submitted electronically to TaboasA@lsc.gov.

FOR FURTHER INFORMATION CONTACT: Anais M. Taboas, Program Counsel, Office of Program Performance, Legal Services Corporation, 3333 K Street NW, Washington, DC 20007, (202) 295-1617, TaboasA@lsc.gov.

SUPPLEMENTARY INFORMATION:

I. Introduction

Funds for the Veterans Pro Bono Program are authorized by and subject to Public Law 102-229, 105 Stat. 1701, as incorporated by reference in subsequent appropriations for the United States Court of Appeals for Veterans Claims (Court). That law requires the Court to provide the funds to LSC to award grants or contracts for the provision of “legal or other assistance, without charge, to veterans and other persons who are unable to afford the cost of legal representation in connection with decisions” of, or other proceedings in, the Court.

Public Law 102-229 requires this assistance to be provided through “a program that furnishes case screening and referral, training and education for attorney and related personnel, and encouragement and facilitation of pro bono representation by members of the bar and law school clinical and other appropriate programs, such as veterans service organizations, and through defraying expenses incurred in providing representation to such persons[.]”

I. Grant Application Process

A. Eligibility

LSC seeks proposals from (1) Non-profit organizations that have as a purpose the provision of free legal assistance to low-income individuals or the provision of free services to veterans; or (2) private attorneys or law firms that seek to establish such a non-profit for these purposes.

B. Veterans Pro Bono Grant Application Process

Applicants must first submit a Pre-Application to LSC via email to TaboasA@lsc.gov by Thursday, April 14, 2022, by 5 p.m. Eastern Time to be considered for a grant. After review by LSC staff, LSC's leadership decides which applicants will be asked to submit a full application. Applicants will be notified of approval to submit a full application by early May 2022. Full applications are due to LSC via email to TaboasA@lsc.gov by 5 p.m. Eastern on July 8, 2022. Once received, full applications will undergo a rigorous review by LSC staff and other subject matter experts. LSC leadership makes the final decision on funding the Veterans Pro Bono Program Grant.

C. Required Pre-Application Content

The Pre-Application must include the following information:

(1) Organization name;

(2) Organization type (e.g., non-profit or law firm);

(3) Name and title of primary contact;

(4) Primary contact mailing address, phone number, and email address;

(5) Names and a brief description of relevant experience of principals and key staff;

(6) Names and a brief description of relevant experience of the current governing board;

(7) Brief description of how your organization will serve eligible veterans, dependents, or other persons with proceedings before the Court regardless of their location or residence; and

(8) If the non-profit organization has not yet been established, names and a brief description of relevant experience of prospective members of a governing board.

“Relevant experience” includes experience with: (a) Veterans benefits law; (b) recruiting, training, supervising, and assigning cases to volunteer attorneys; (c) practice before the Court or supervision of attorneys practicing before the Court; (d) reviewing and evaluating veterans benefits cases; and (e) outreach and education for veterans and dependents regarding veterans benefits rights and procedures.

The Pre-Application must not exceed seven (7) single-spaced pages and must be submitted as a single PDF document.

D. Late or Incomplete Pre-Applications

LSC may consider a request to submit a Pre-Application after the deadline, but only if the Applicant submitted an email to TaboasA@lsc.gov explaining the circumstances that caused the delay before the Pre-Application deadline. Communication with LSC staff is not a substitute for sending a formal request and explanation to TaboasA@lsc.gov. At its discretion, LSC may consider incomplete Pre-Applications. LSC will determine the admissibility of late or incomplete Pre-Application on a case-by-case basis.

E. Additional Information and Guidelines

Additional guidance and instructions on the Veterans Pro Bono Program Pre-Application and Application processes will be available on https://lsc.gov/grants/veterans-pro-bono-grant-program.

The Application, guidelines, content requirements, and specific selection criteria will be available the week of May 10, 2022, at www.lsc.gov.

For more information about the current grantee, The Veterans Consortium Pro Bono Program, please visit www.vetsprobono.org.

Authority: 42 U.S.C. 2996g(e).

Dated: March 4, 2021.
Stefanie Davis,
Senior Associate General Counsel.

[FR Doc. 2022-05031 Filed 3-9-22; 8:45 am]

BILLING CODE 7050-01-P